DEPARTMENT OF ENERGY

Federal Energy Regulatory Commission

[Project No. 459-229]

Union Electric Company, dba AmerenUE; Notice of Application for Non-Project Use of Project Lands and Soliciting Comments, Motions To Intervene, and Protests

July 9, 2008.

Take notice that Commission hydroelectric application has been filed with the Commission and is available for public inspection:

a. Application Type: Non-Project Use of Project Lands and Waters.

b. Project No: 459-229.

c. Date Filed: June 23, 2008.

d. Applicant: Union Electric Company, dba AmerenUE.

e. Name of Project: Osage Project.

f. Location: The proposal would be located at the Bella Sera Condominium community near mile marker 31.2+0.1 on the Osage Branch of the Lake of the Ozarks, in Camden County, Missouri.

g. Filed Pursuant to: Federal Power Act, 16 U.S.C. 791(a)-825(r).

h. Applicant Contact: Mr. Jeff Green, Shoreline Supervisor, Ameren UE, P.O. Box 993, Lake Ozark, MO 65049, (573) 365-9214.

i. FERC Contact: Any questions on this notice should be addressed to Isis Johnson, Telephone (202) 502-6346, and e-mail: Isis.Johnson@ferc.gov.

j. Deadline for filing comments, motions to intervene, and protests: August 11, 2008.

All documents (original and eight copies) should be filed with: Kimberly D. Bose, Secretary, Federal Energy Regulatory Commission, 888 First Street, NE., Washington, DC 20426. Please include the project number (P-459-229) on any comments or motions filed. Comments, protests, and interventions may be filed electronically via the internet in lieu of paper. See, 18 CFR 385.2001(a)(1)(iii) and the instructions on the Commission's Web site under the “e-Filing” link. The Commission strongly encourages e-filings.

k. Description of Request: Union Electric Company, dba AmerenUE (licensee) filed an application seeking Commission approval to grant permission to Irongate, LLC dba Bella Sera Condominiums to install three multi-slip boat docks on the Osage Branch of the Lake of the Ozarks. The three docks would include a total of 35 boat slips to serve the residents of the Bella Sera Condominium community. The applicant also proposes to provide electrical power to the slips. The proposed facilities would be floated into place and no dredging, fuel-dispensing, or sewage pumping facilities are proposed.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3372 or e-mail FERCOnlineSupport@ferc.gov, for TTY, call (202) 502-8659. A copy is also available for inspection and reproduction at the address in item (h) above.

m. Individuals desiring to be included on the Commission's mailing list should so indicate by writing to the Secretary of the Commission.

n. Filing and Service of Responsive Documents—Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

o. Any filings must bear in all capital letters the title “COMMENTS”, “PROTEST”, or “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E8-16210 Filed 7-14-08; 8:45 am]

BILLING CODE 6717-01-P